DEPARTMENT OF TRANSPORTATION

National Highway Traffic Safety Administration

49 CFR Part 593

[Docket No. NHTSA-2010-0125; Notice 2]

List of Nonconforming Vehicles Decided To Be Eligible for Importation

AGENCY: National Highway Traffic Safety Administration (NHTSA), DOT.

ACTION: Correction to final regulations.

SUMMARY: This document contains a correction to final regulations published in the Federal Register on Tuesday, September 21, 2010, (75 FR 57396) that revised the list of vehicles not originally manufactured to conform to the Federal Motor Vehicle Safety Standards (FMVSS) that NHTSA has decided to be eligible for importation.

DATES: This correction is effective on October 12, 2010.

FOR FURTHER INFORMATION CONTACT: Coleman Sachs, Office of Vehicle Safety Compliance, NHTSA, (202) 366-3151.

SUPPLEMENTARY INFORMATION: The final regulation contains a table listing vehicles manufactured for other than the Canadian market that NHTSA has decided are eligible for importation into the United States based on their capability of being modified to conform to all applicable FMVSS. The entry on this list for model year 1997-1998 Jeep Cherokee vehicles eligible for importation under vehicle eligibility number VSP-516 and the entry for model year 1997-2001 Jeep Cherokee vehicles eligible for importation under vehicle eligible number VSP-515 erroneously state that both left-hand drive (LHD) and right-hand drive (RHD) versions of those vehicles are eligible for importation. These entries are corrected to show that only the left-hand drive (LHD) version of the model year 1997-1998 Jeep Cherokee to which vehicle eligibility number VSP-516 pertains is eligible for importation, and that only the right-hand drive (RHD) version of the 1997-2001 Jeep Cherokee to which vehicle eligibility number VSP-515 pertains is eligible for importation.

List of Subjects in 49 CFR Part 593

Imports, Motor vehicle safety, Motor vehicles.

Accordingly, 49 CFR part 593 is corrected by making the following correcting amendments:

PART 593—DETERMINATIONS THAT A VEHICLE NOT ORIGINALLY MANUFACTURED TO CONFORM TO THE FEDERAL MOTOR VEHICLE SAFETY STANDARDS IS ELIGIBLE FOR IMPORTATION

1. The authority citation for part 593 continues to read as follows:

Authority: 49 U.S.C. 322 and 30141(b); delegation of authority at 49 CFR 1.50.

Appendix A to Part 593—[Amended]

2. Amend the table in Appendix A titled “Vehicles Manufactured for Other Than the Canadian Market” as follows:

a. In the entry for Jeep Cherokee, Model year 1997-1998 (VSP-516), revise the second column to read “Cherokee (LHD)”.

b. In the entry for Jeep Cherokee, Model year 1997-2001 (VSP-515), revise the second column to read “Cherokee (RHD)”.

Issued on: September 30, 2010.
Marilena Amoni,
Associate Administrator for the National Center for Statistics and Analysis.

[FR Doc. 2010-25484 Filed 10-8-10; 8:45 am]

BILLING CODE 4910-59-P